DEPARTMENT OF LABOR

Mine Safety and Health Administration

Proposed Information Collection Request Submitted for Public comment and Recommendations: Mine Rescue Teams; Arrangements for Emergency Medical Assistance; and Arrangements for Transportation for Injured Persons

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(2)(A)]. This program helps to ensure that requested data can be provided in the desired format, reporting burden (time and financial resources) is minimized, collection instruments are clearly understood, and the impact of collection requirements on respondents can be properly assessed.

DATES: Submit comments on or before November 7, 2000.

ADDRESSES: Send comments to Brenda C. Teaster, Acting Chief, Records Management Division, 4015 Wilson Boulevard, Room 627, Arlington, VA 22203-1984. Commenters are encouraged to send their comments on a computer disk, or via E-mail to bteaster@msha.gov, along with an original printed copy. Ms. Teaster can be reached on (703) 235-1470 or (703) 235-1563 (facsimile).

FOR FURTHER INFORMATION CONTACT: Brenda C. Teaster, Acting Chief, Records Management Division, U.S. Department of Labor, Mine Safety and Health Administration, Room 709S, 4015 Wilson Boulevard, Arlington, VA 22203-1984. Ms. Teaster can be reached at btewaster@msha.gov (Internet E-mail), (703) 235-1470 (voice), or (703) 235-1563 (facsimile).

SUPPLEMENTARY INFORMATION:

I. Background

Section 115(e) of the Federal Mine Safety and Health Act of 1977 required the Secretary of Labor to publish proposed regulations which provide that mine rescue teams be available for rescue and recovery work to each underground mine in the event of an emergency. Congress considered the ready availability of mine rescue teams in the event of an accident to be vital protection for miners.

In responding to Congressional concerns, MSHA promulgated 30 CFR 49, Mine Rescue Teams. These regulations set standards related to the availability of mine rescue teams; alternate mine rescue capability for small and remote mines and mines with special mining conditions; inspection and maintenance records of mine rescue equipment and apparatus; physical requirements for mine rescue team members and alternates; and experience and training requirements for team members and alternates.

II. Desired Focus of Comments

Currently, the Mine Safety and Health Administration (MSHA) is soliciting comments concerning the proposed extension of the information collection related to Mine Rescue Teams; Arrangements for Emergency Medical Assistance; and Arrangements for Transportation for Injured Persons. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the FOR FURTHER INFORMATION CONTACT section of this notice for a hard copy.

III. Current Actions

This request for review incorporates all paperwork requirements related to mine rescue teams, arrangements for emergency medical assistance, and arrangements for transportation for injured persons.

Type of Review: Extension.

Agency: Mine Safety and Health Administration.

Title: Mine Rescue Teams; Arrangements for Emergency Medical Assistance; and Arrangements for Transportation for Injured Persons.

OMB Number: 1219-0078.

Recordkeeping: One year.

Affected Public: Business or other for-profit institutions.

Estimated Burden Hours:

Cite/reference | Total respondents | Frequency | Total responses | Average time per response (in hours) | Burden (in hours)
49.2 | 1,145 | On occasion | 147 | 1.00 | 146
49.3 and 4 | 10 | On occasion | 10 | 2.00 | 20
49.6 | 520 | Bimonthly | 28,080 | 0.31 | 8,580
49.7 | 520 | Annually | 3,120 | 2.13 | 6,630
49.8 | 260 | Annually | 14,456 | 0.60 | 8,723
49.9 | 1,145 | On occasion | 147 | 2.00 | 293
75.1713-1 | 921 | On occasion | 116 | 2.00 | 233
77.1702 | 1,601 | On occasion | 206 | 2.00 | 413
Totals | 6,122 |  | 46,282 | 0.54 | 25,037

Estimated Burden Hour Cost: $1,040,571.

Estimated Burden Cost (capital/startup): $0.

Estimated Burden Cost (operating/maintaining): $460,080.

Comments submitted in response to this notice will be summarized and/or included in the request for Office of Management and Budget approval of the information collection request; they will also become a matter of public record.

Dated: September 1, 2000.
Brenda C. Teaster,
Acting Chief, Records Management Division.

[FR Doc. 00-23130 Filed 9-7-00; 8:45 am]

BILLING CODE 4510-43-M